DEPARTMENT OF ENERGY

Federal Energy Regulatory Commission

[Docket No. RP04-119-000]

Dominion Transmission, Inc.; Notice of Tariff Filing

December 30, 2003.

Take notice that on December 23, 2003, Dominion Transmission, Inc. (DTI) tendered for filing as part of its FERC Gas Tariff, Third Revised Volume No. 1, the following tariff sheets, with an effective date of January 22, 2004:

Fourth Revised Sheet No. 1001

Original Sheet No. 1504

Sheet Nos. 1505-1999

DTI states that it proposes to add a new section 42 to the General Terms and Conditions of its Tariff (GT&C) to authorize the sale from time to time of gas that DTI has retained or taken title to pursuant to the terms of the GT&C, effective Rate Schedules, or Commission orders and that it desires to remove from its system for operational reasons.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-10 Filed 1-8-04; 8:45 am]

BILLING CODE 6717-01-P